DEPARTMENT OF THE TREASURY

Submission for OMB Review; Comment Request

December 27, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 5, 2001 to be assured of consideration.

Bureau of Alcohol, Tobacco and Firearms (BATF)

OMB Number: 1512-0024.

Form Number: ATF F 1 (5320.1).

Type of Review: Extension.

Title: Application to Make and Register a Firearm.

Description: This form is used by persons applying to make and register a firearms that falls within the purview of the National Firearms Act. The information supplied by the applicant on the form helps to establish the applicant's eligibility.

Respondents: Individuals or households, Business or other for-profit.

Estimated Number of Respondents: 1,071.

Estimated Burden Hours Per Respondent: 4 hours.

Frequency of Response: On occasion.

Estimated Total Reporting Burden: 4,271 hours.

OMB Number: 1512-0042.

Form Number: ATF F 7 (5310.12).

Type of Review: Extension.

Title: Application for License under 18 U.S.C. Chapter 44, Firearms.

Description: This form is used by the public when applying for a Federal firearms license as a dealer, importer, or manufacturer. The information requested on the form establishes eligibility for the license. The form is also used when responsible persons are added to an existing license in item 20.

Respondents: Individuals or households, Business or other for-profit.

Estimated Number of Respondents: 10,000.

Estimated Burden Hours Per Respondent: 1 hour, 15 minutes.

Frequency of Response: Other (once).

Estimated Total Reporting Burden: 12,500 hours.

OMB Number: 1512-0130.

Form Number: ATF F 4473 (5300.9) Part II.

Type of Review: Extension.

Title: Firearms Transaction Record, Part II Non-Over-The-Counter.

Description: The form is used to determine the eligibility of a person to receive a firearm from a Federal firearms licensee. It is also used to establish the identity of the buyer. The form is also used in law enforcement investigations to trace firearms or to confirm criminal activity.

Respondents: Individuals or households, Business or other for-profit.

Estimated Number of Recordkeepers: 20,900.

Estimated Burden Hours Per Respondent: 6 minutes.

Frequency of Response: On occasion.

Estimated Total Recordkeeping Burden: 9,057 hours.

OMB Number: 1512-0490.

Form Number: ATF F 4473 (5300.24) Part I (LV) and ATF F 4473 (5300.25) Part II (LV).

Recordkeeping Requirement ID Number: ATF REC 7570/2.

Type of Review: Extension.

Title: Firearms Transaction Record Part I—Low Volume—Over-the-Counter (ATF F 4473 (5300.24)); and Firearms Transaction Record Part II—Low Volume—Intra-State Non-Over-the-Counter (ATF F 4473 (5300.25)).

Description: ATF Form LV Parts I and II is for use only by Federal firearms licensees disposing of 50 or fewer firearms per 12-month period. It is kept, at the licensee's option, in lieu of ATF F 4473 and records of acquisition and disposition.

Respondents: Business or other for-profit, Individuals or households.

Estimated Number of Recordkeepers: 5,000.

Frequency of Response: On occasion.

Estimated Burden Hours Per Recordkeeper: 6 minutes.

Estimated Total Recordkeeping Burden: 1,042 hours.

OMB Number: 1512-0529.

Form Number: ATF F 1676 (5510.2).

Type of Review: Extension.

Title: Bond Covering Removal To and Use of Wine At Vinegar Plant.

Description: ATF F 1676 (5510.2) is a bond form which serves as a contact between the proprietor of a vinegar plant and a surety. The bond coverage stated on the form is an amount sufficient to cover the federal excise tax on wine in transit to and stored on the vinegar premises until the wine becomes vinegar.

Respondents: Business or other for-profit.

Estimated Number of Respondents: 25.

Estimated Burden Hours Per Respondent: 1 hour.

Estimated Total Reporting Burden: 25 hours.

OMB Number: 1512-0534.

Form Number: ATF F 2103 (5220.5), ATF F 2104 (5200.15), ATF F 2105 (5000.7), ATF F 2490 (5620.10), and ATF F 3070 (5210.13).

Type of Review: Extension.

Title: Bond—Export Warehouse Proprietor (F 2103); Export Bond—Customs Bonded Cigar Manufacturing Warehouse (F 2104); Extension of Coverage of Bond (F 2105); Bond Under 26 U.S.C. 6423 (F 2490); and Bond—Manufacturer of Tobacco Products (F 3070).

Description: ATF F 2103 (5220.5), Bond—Export Warehouse Proprietor is used to establish the qualifications of an applicant for an export status has changed and must change the information already on file. The applicant certifies the intention to produce and/or store a specified amount of tobacco products and takes certain precautions to protect it from unauthorized use. The completed application and supporting data is a permanent record of the business and its qualifications to operate.

ATF F 2104 (5200.15), Export Bond—Customs Bonded Cigar Manufacturing Warehouse is used to establish the qualifications of an applicant who seeks authorization to manufacture cigars within a customs bonded warehouse for subsequent exportation, or by a current manufacturer of such cigars whose status has changed and must change the information already on file. The applicant certifies the intention to produce, store and export a specified quantity of cigars products and takes certain precautions to protect them from unauthorized use. The completed application and supporting data is a permanent record of business and its qualifications to operate.

ATF F 2105 (5000.7), Extension of Bond Coverage is used to determine compliance by payment on untaxpaid commodities.

ATF F 2490 (5620.10), Bond Under 26 U.S.C. 6423, and ATF F 3070 (5210.13), Bond—Manufacturer of Tobacco Products are tobacco products and cigarette papers and tubes bond forms used by the manufacturers or proprietor and a surety company as a contract to ensure tax payment.

Respondents: Business or other for-profit.

Estimated Number of Recordkeepers: 15.

Estimated Burden Hours Per Recordkeeper: 1 hour, 40 minutes.

Estimated Total Recordkeeping Burden: 25 hours.

Clearance Officer: Frank Bowers (202) 927-8930, Bureau of Alcohol, Tobacco and Firearms, Room 3200, 650 Massachusetts Avenue, NW., Washington, DC 20226.

OMB Reviewer: Alexander T. Hunt (202) 395-7860, Office of Management and Budget, Room 10202, New Executive Office Building, Washington, DC 20503.

Lois K. Holland,
Departmental Reports, Management Officer.

[FR Doc. 01-145 Filed 1-3-01; 8:45 am]

BILLING CODE 4810-31-P